DEPARTMENT OF DEFENSE

GENERAL SERVICES ADMINISTRATION

NATIONAL AERONAUTICS AND SPACE ADMINISTRATION

48 CFR Chapter 1

[Docket FAR 2009-0001, Sequence 6]

Federal Acquisition Regulation; Federal Acquisition Circular 2005-35; Introduction

AGENCY: Department of Defense (DoD), General Services Administration (GSA), and National Aeronautics and Space Administration (NASA).

ACTION: Summary presentation of final rule.

SUMMARY: This document summarizes the Federal Acquisition Regulation (FAR) rule agreed to by the Civilian Agency Acquisition Council and the Defense Acquisition Regulations Council in this Federal Acquisition Circular (FAC) 2005-35. A companion document, the Small Entity Compliance Guide (SECG), follows this FAC. The FAC, including the SECG, is available via the Internet at http://acquisition.gov/far.

DATES: July 14, 2009.

FOR FURTHER INFORMATION CONTACT: For clarification of content, contact the analyst whose name appears in the table below in relation to the FAR case. Please cite FAC 2005-35 and the FAR case number. Interested parties may also visit our Web site at http://acquisition.gov/far. For information pertaining to status or publication schedules, contact the FAR Secretariat at (202) 501-4755.

Rule Listed in FAC 2005-35
Subject | FAR case | Analyst
Revocation of Executive Order 13202 | 2009-015 | Woodson

SUPPLEMENTARY INFORMATION: A summary for the FAR rule follows. For the actual revisions and/or amendments to this FAR case, refer to FAR case 2009-015.

FAC 2005-35 amends the FAR as specified below:

Revocation of Executive Order 13202 (FAR Case 2009-015)

In accordance with Executive Order 13502—Use of Project Labor Agreements for Federal Construction Projects, this final rule amends FAR 36.202(d) to delete references to the revoked Executive Order 13202. The E.O. prohibited executive departments and agencies from requiring or prohibiting Federal Government contractors and subcontractors' entrance into project labor agreements. This rule requires no action on the part of contracting officers.

Dated: July 9, 2009.
Al Matera,
Director, Office of Acquisition Policy

.

Federal Acquisition Circular

Federal Acquisition Circular (FAC) 2005-35 is issued under the authority of the Secretary of Defense, the Administrator of General Services, and the Administrator for the National Aeronautics and Space Administration.

Unless otherwise specified, all Federal Acquisition Regulation (FAR) and other directive material contained in FAC 2005-35 is effective July 14, 2009.

Dated: July 8, 2009.
Linda W. Neilson,
Deputy Director, Defense Procurement and Acquisition Policy (Defense Acquisition Regulations System).

Dated: July 9, 2009.
David A. Drabkin,
Acting Chief Acquisition Officer, Office of the Chief Acquisition Officer, U.S. General Services Administration.
Dated: July 8, 2009.
James A. Balinskas,
Acting Assistant Administrator for Procurement, National Aeronautics and Space Administration.

[FR Doc. E9-16617 Filed 7-10-09; 11:15 am]

BILLING CODE 6820-EP-P